DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-67776, dated October 14, 1980, and corrected at 45 FR 69296, October 20, 1980, as amended most recently at 72 FR 19522-19528, dated April 18, 2007) is amended to reflect the reorganization of the Division of Nutrition and Physical Activity within the National Center for Chronic Disease Prevention and Health Promotion, Coordinating Center for Health Promotion, Centers for Disease Control and Prevention.

Section C-B, Organization and Functions, is hereby amended as follows: Delete in its entirety the title and functional statements for the Division of Nutrition and Physical Activity (CUCH), National Center for Chronic Disease Prevention and Health Promotion (CUC), Coordinating Center for Health Promotion (CU), and insert the following:

Division of Nutrition, Physical Activity, and Obesity Prevention (CUCH). (1) Provides national and international leadership to chronic disease prevention and maternal and child health in the areas of nutrition, physical activity, and obesity prevention; (2) implements surveillance and surveillance systems to track and analyze nutrition problems, physical inactivity, and related risk factors; (3) builds state capacity to collect and utilize surveillance data; (4) builds international, national, state, and local expertise and capacity in nutrition, physical activity, and obesity prevention through consultation and training; (5) provides technical assistance and other support to enable state and local health agencies to plan, implement, and evaluate nutrition, physical activity, and obesity prevention programs; (6) contributes to the science base by conducting epidemiologic and intervention studies related to nutrition, physical activity and obesity; (7) ensures that scientific and programmatic efforts span the arenas of policy, environment, communications, social, and behavioral interventions; (8) develops and disseminates new methods, guidelines, and criteria for effective nutrition, physical activity, and obesity prevention programs; (9) collaborates with appropriate Federal and state agencies, international/national/community organizations, and other CDC partners; (10) provides national leadership in health communications to promote nutrition and physical activity, and integrate health communications efforts with overall program efforts; and (11) facilitates the translation and dissemination of research findings into public health practice for optimal health impact.

Office of the Director (CUCH1). (1) Provides leadership and direction in establishing division priorities, strategies, programs, and policies; (2) plans and directs resources and activities in alignment with division goals and objectives; (3) mobilizes and coordinates partnerships and constituencies to build a national infrastructure for nutrition and physical activity promotion and obesity prevention; (4) educates healthcare professionals, businesses, communities, the general public, and key decision-makers about the importance of nutrition and physical activity in prevention obesity and their impact on chronic disease and public health; (5) facilitates cross-functional activities and operations throughout NCCDPHP and coordination with other NCs, constituencies, and Federal agencies; (6) monitors progress toward achieving division goals and objectives and assesses the impact of programs; (7) provides special training and capacity building activities in support of division programs; (8) provides administrative and management support for division activities; (9) provides leadership to the division and field of staff for health communication efforts to promote nutrition and physical activity and prevent obesity.

Nutrition Branch (CUCHC). (1) Plans, coordinates, and conducts surveillance activities in domestic and international settings to assess nutrition practices and behavioral risks in children, adolescents, and adults, with a particular focus on maternal and child health, optimal child growth and development, and prevention of chronic disease; (2) provides expertise, consultation and training to local, state, and international officials and scientists to establish and maintain dietary surveillance systems related to maternal and child health, chronic disease nutrition, and risk factors; (3) analyzes, interprets, and disseminates data from surveys, surveillance activities, and epidemiologic studies related to maternal and child nutrition and nutrition factors affecting chronic disease; (4) designs, implements, and evaluates epidemiologic studies and intervention projects for domestic and international application to address micronutrient nutrition; (5) develops and disseminates nutrition guidelines and recommendations for maternal and child health, child growth and development, and prevention/reduction of chronic disease; (6) coordinates and collaborates with appropriate Federal agencies, national and international organizations, and other partners to strengthen and extend nutrition surveillance and epidemiology; and (7) conducts cross-functional nutrition-related activities throughout NCCDPHP.

Physical Activity and Health Branch (CUCHD). (1) Plans, coordinates, and conducts surveillance activities in domestic and international settings related to physical activity levels as well as factors associated with physical activity practices; (2) conducts epidemiologic research related to physical activity and its impact on health, obesity, and chronic disease; (3) provides leadership in the development of evidence-based guidelines and recommendations for physical activity; (4) provides technical expertise, consultation and training to state, local, and international officials related to physical activity; (5) disseminates findings from surveillance and epidemiologic research through publications in scientific literature; (6) coordinates and collaborates with appropriate Federal agencies, national and international organizations, and other partners to strengthen and extend surveillance and epidemiology related to physical activity and health and to enhance development of science-based guidelines and recommendations for physical activity; and (7) conducts cross-functional physical activity-related activities throughout NCCDHP.

Obesity Prevention and Control Branch (CUCHG). (1) Plans, coordinates, and conducts surveillance to assess levels of healthy weight, overweight, and obesity and associated factors and behaviors; (2) provides expertise, consultation and training to state, local, and international officials and scientists to establish and maintain surveillance systems related to healthy weight, overweight, and obesity; (3) analyzes, interprets, and disseminates data from surveys, surveillance activities, and epidemiologic studies related to obesity and overweight; (4) designs, implements, and evaluates epidemiologic studies and intervention projects; (5) develops and disseminates guidelines and recommendations; (6) coordinates and collaborates with appropriate Federal agencies, national and international organizations, and other partners to strengthen and extend surveillance and epidemiology; and (7) conducts cross-functional obesity-related activities throughout NCCDPHP.

Program Development and Evaluation Branch (CUCHH). (1) Provides programmatic leadership, technical expertise, and guidance for state-based nutrition, physical activity, and obesity prevention programs; (2) delivers technical assistance and consultation to states, communities, and the public in health promotion and chronic disease prevention; (3) identifies and promotes effective program management approaches and ensures performance-based distribution of public funds; (4) uses research findings, guidelines, and recommendations to develop strategies and interventions that support physical activity, good nutrition, and health weight; (5) conducts behavioral and communications research to understand knowledge, attitudes, and beliefs, and institute health-conscious behavior changes in populations; (6) conducts research to identify effective outreach strategies, particularly for underserved populations and those at highest risk of chronic disease; (7) obtains, analyzes, disseminates, and publishes data from state-based programs to develop operational strategies for translation of results into improved and promising practices; (8) monitors, tracks, and evaluates program interventions and activities for health impact; and (9) establishes and maintains collaborative relationships with external partners and groups, including research institutions, schools of public health, medical schools, state health departments, national and voluntary organizations, and others to ensure that the Division's efforts reflect state-of-the-art practices and methods.

Dated: June 20, 2007.
William H. Gimson,
Chief Operating Officer, Centers for Disease Control and Prevention (CDC).

[FR Doc. 07-3162 Filed 6-27-07; 8:45 am]

BILLING CODE 4163-18-M